DEPARTMENT OF JUSTICE

Antitrust Division

Notice Pursuant to the National Cooperative Research and Production Act of 1993—Cooperative Research Group on Advanced Engine Fluids

Notice is hereby given that, on September 22, 2015, pursuant to section 6(a) of the National Cooperative Research and Production Act of 1993, 15 U.S.C. 4301 et seq. (“the Act”), Southwest Research Institute—Cooperative Research Group on Advanced Engine Fluids (“AEF”) has filed written notifications simultaneously with the Attorney General and the Federal Trade Commission disclosing changes in its membership. The notifications were filed for the purpose of extending the Act's provisions limiting the recovery of antitrust plaintiffs to actual damages under specified circumstances. Specifically, Fuchs Europe Schierstoffe GMBH, Mannheim, GERMANY; Afton Chemical Corporation, Richmond, VA; and Lubrizol, Wickliffe, OH, have been added as parties to this venture.

No other changes have been made in either the membership or planned activity of the group research project. Membership in this group research project remains open, and AEF intends to file additional written notifications disclosing all changes in membership.

On March 20, 2015, AEF filed its original notification pursuant to section 6(a) of the Act. The Department of Justice published a notice in the Federal Register pursuant to section 6(b) of the Act on April 22, 2015 (80 FR 22551).

The last notification was filed with the Department on May 19, 2015. A notice was published in the Federal Register pursuant to section 6(b) of the Act on June 8, 2015 (80 FR 32411).

Patricia A. Brink,
Director of Civil Enforcement, Antitrust Division.

[FR Doc. 2015-27044 Filed 10-22-15; 8:45 am]

BILLING CODE P